DEPARTMENT OF TREASURY

Internal Revenue Service

Internal Revenue Service Advisory Council; Nomination

AGENCY: Internal Revenue Service (IRS), Treasury.

ACTION: Request for nominations.

SUMMARY: The Internal Revenue Service (IRS) requests nominations of individuals to be considered for selection as Internal Revenue Service Advisory Council (IRSAC) members. Interested parties may nominate themselves and/or at least one other qualified person for membership. Nominations will be accepted for current vacancies and vacancies that will or may occur during the next twelve (12) months, and should describe and document the applicant's qualifications for membership. Comprised of twenty-three (23) members, approximately half of these IRSAC appointments will expire in 2001. It is important that the IRSAC continue to represent a diverse taxpayer and stakeholder base. Accordingly, to maintain membership diversity, selection is based on an applicant's qualifications as well as the segment or group he/she represents.

DATES: Written nominations must be received on or before September 30, 2001.

ADDRESSES: Nominations should be sent to Ms. Lorenza Wilds, National Public Liaison, CL:NPL:PAC, Room 7565 IR, 1111 Constitution Avenue, NW., Washington, D.C. 20224, Attn: IRSAC Nominations; e-mail: *public_liaison@irs.gov. Applications may be submitted by mail to the address above or faxed to 202-927-5253. However, if submitted vis-à-vis facsimile, the original application must be received by mail, as National Public Liaison cannot consider an applicant nor process his/her application prior to receipt of an original signature. Application packages are available on the Tax Professional's Corner and Small Business Corner, which are located on the IRS” Internet Web site at http://www.irs.gov/prod/bus_info/tax_pro/index.html and http://www.irs.gov/prod/bus_info/sm_bus/index.html respectively. Application packages may also be requested by telephone from National Public Liaison, 202-622-6440.

FOR FURTHER INFORMATION CONTACT: Ms. Lorenza Wilds, 202-622-6440 (not a toll-free number).

SUPPLEMENTARY INFORMATION: Authorized under the Federal Advisory Committee Act, Public Law No. 92-463, the first Advisory Group to the Commissioner of Internal Revenue—or the Commissioner's Advisory Group (CAG)—was established in 1953 as a “national policy and/or issue advisory committee.” Renamed in 1998 to reflect the agency-wide scope of its focus as an advisory body, the IRSAC's primary purpose is to provide an organized public forum for senior IRS executives and representatives of the public to discuss relevant tax administration issues. As an advisory body designed to focus on broad policy matters, the IRSAC reviews existing tax policy and/or recommends policies with respect to emerging tax administration issues. As such, the IRSAC suggests operational improvements, offers constructive observations regarding current or proposed IRS policies, programs, and procedures, and advises the Commissioner with respect to issues having substantive effect on federal tax administration. The commentary and assistance provided by the IRSAC during the recent IRS modernization effort were particularly helpful, and it is contemplated that similar significance will attach to the Council's advice in addressing new challenges as the restructured IRS moves forward.

Conveying the public's perception of IRS activities to the Commissioner, the IRSAC is comprised of individuals who bring substantial, disparate experience and diverse backgrounds to bear on the Council's activities. Membership is balanced to include representation from the taxpaying public, the tax professional community, small and large businesses, state tax administration, and the payroll community.

IRSAC members are appointed by the Commissioner and serve a term of two years, with the possibility of a one-year renewal, subject to the Commissioner's approval. The Commissioner determines the size of the IRSAC and the organizations represented on the Council. Working groups that mirror the reorganized IRS address policies and administration issues specific to the four Operating Divisions. While Council members are not paid for their time or services, members residing outside of the Washington, DC metropolitan area will be reimbursed for travel-related expenses incurred to attend an average of two public meetings and one orientation session per year; in accordance with 5 U.S.C. 5703. IRSAC members, their employers, or their sponsoring associations/organizations are responsible for travel-related expenses to all scheduled working sessions or other meetings.

Receipt of nominations will be acknowledged, nominated individuals contacted, and immediately thereafter, biographical information must be completed and returned to Ms. Lorenza Wilds in National Public Liaison within fifteen (15) days of receipt. In accordance with Department of Treasury Directive 21-03, a clearance process including, inter alia, pre-appointment and annual tax checks, a Federal Bureau of Investigation criminal and subversive name check, and a security clearance will be conducted.

Equal opportunity practices will be followed for all appointments to the IRSAC in accordance with the Department of Treasury and IRS policies. To ensure that the recommendations of the IRSAC have taken into account the needs of the diverse groups served by the IRS, membership shall include, to the extent practicable, individuals with demonstrated ability to represent minorities, women, and persons with disabilities.

Dated: September 4, 2001.
Cathy VanHorn,
Designated Federal Official, Acting Director, National Public Liaison.

[FR Doc. 01-22800 Filed 9-11-01; 8:45 am]

BILLING CODE 4830-01-P